DEPARTMENT OF TRANSPORTATION

Office of the Secretary

Notice of Applications for Certificates of Public Convenience and Necessity and Foreign Air Carrier Permits Filed Under Subpart B (Formerly Subpart Q) During the Week Ending June 8, 2007

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-21805.

Date Filed: June 6, 2007.

Due Date for Answers, Conforming Applications, or Motion to Modify Scope: June 27, 2007.

Description: Application of Tyrolean Jet Service Nfg. GmbH & Co. KG. (“Tyrolean Jet Services”), requesting an exemption and an amended foreign air carrier permit authorizing Tyrolean Jet Services to conduct: (i) Charter foreign air transportation of persons, property and mail from points behind EU Member States and intermediate points to any point or points in the United States and beyond; (ii) charter foreign air transportation of persons, property and mail between any point or points in the United States and any point or points in the European Common Aviation Area (“ECAA”); and (iii) other charters (between non-EU/ECAA third countries and the United States, and otherwise).

Docket Number: OST-2007-28450.

Date Filed: June 6, 2007.

Due Date for Answers, Conforming Applications, or Motion to Modify Scope: June 27, 2007.

Description: Application of Cargoitalia, S.p.A. (“Cargoitalia”), requesting an amended foreign air carrier permit to engage in foreign scheduled and charter air transportation of property and mail from any point or points behind any Member State of the European Union via the Member States and via intermediate points to any point or points in the United States and beyond; foreign scheduled and charter air transportation of property and mail between any point or points in the United States and any other point or points. Cargoitalia further requests a corresponding exemption to enable it to provide the service described above pending issuance of an amended foreign air carrier permit and such additional or other relief as the Department may deem necessary or appropriate.

Docket Number: OST-2007-28472.

Date Filed: June 7, 2007.

Due Date for Answers, Conforming Applications, or Motion to Modify Scope: June 28, 2007.

Description: Application of Austrian Airlines Osterreichische Luftverkehrs AG, requesting an amended foreign air carrier permit to engage in scheduled foreign air transportation of persons, property, and mail to the full extent authorized by the new Air Transport Agreement between the U.S. and the European Community and the Member States of the European Community, and (ii) exemption authority encompassing the service described above pending the issuance of an amended foreign air carrier permit.

Renee V. Wright,
Program Manager, Docket Operations, Federal Register Liaison.

[FR Doc. E7-12343 Filed 6-25-07; 8:45 am]

BILLING CODE 4910-9X-P